GENERAL SERVICES ADMINISTRATION

[Notice-MY-2024-01; Docket No. 2024-0002; Sequence No. 46]

Notice of the Federal Chief Data Officers Council's Data Powers Mission: Transforming Symposium

AGENCY: Federal Chief Data Officers (CDO) Council, Office of Executive Councils, Office of Government-wide Policy, General Services Administration (GSA).

ACTION: Meeting notice.

SUMMARY: Join leaders from across the Federal Government representing diverse functional domains for an immersive one-day symposium as they share exclusive insights on how data transforms mission delivery and unlocks the art-of-possible. Learn from Federal executives and strategic business partners in the fields of finance, procurement, human capital and other functional areas. Through keynote addresses and panel discussions, attendees will discover the transformative power of data in modernizing agency missions, digital transformation, and enhancing organizational capabilities. Expect to gain a deeper understanding of how the alignment of AI and data management can unleash sustained and responsible value within Federal agencies. Don't miss out on this opportunity to be part of crucial conversations that will shape the future of Federal agency operations.

DATES: The CDO Council Symposium will be held in-person on Thursday, November 21, 2024 from 8 a.m. to 3:30 p.m. eastern time (ET).

ADDRESSES: GSA Headquarters, 1800 F St NW, Washington, DC 20405 within the Jess Mellon Auditorium.

This is an in-person event. All attendees, including industry partners, must register for the event here: https://www.ticketsource.us/federal-cdo-council/federal-cdo-council-presents-data-powers-mission-transforming-business-and-mission-with-data/e-pqaaqq.

Members of the press are invited to attend but are required to register with the GSA press office (via email press@gsa.gov) by Thursday, November 14, 2024.

FOR FURTHER INFORMATION CONTACT: Ariel Crawford and Ashley Jackson, Senior Advisors, Office of Shared Solutions and Performance Improvement, Office of Government-wide Policy, General Services Administration, 1800 F Street NW, (Mail-code: MY), Washington, DC 20405, at 301-653-7198 (Ariel Crawford) and 202-538-2897 (Ashley Jackson), or cdocstaff@gsa.gov.

SUPPLEMENTARY INFORMATION:

Procedures for Attendance

Register to attend the Symposium via the Registration https://www.ticketsource.us/federal-cdo-council/federal-cdo-council-presents-data-powers-mission-transforming-business-and-mission-with-data/e-pqaaqq. Attendees must register by 5 p.m. ET, on Friday, November 15, 2024. Space is limited and available based on registration. (GSA will be unable to provide technical assistance to attendees during the meeting.) Members of the press are invited to attend but are required to register with the GSA press office (via email press@gsa.gov) by Thursday, November 14, 2024.

Accommodations

This meeting will include American Sign Language (ASL) interpretation. To request additional accommodations for a disability, please contact cdocstaff@gsa.gov at least seven (7) calendar days prior to the meeting to allow as much time as possible to process your request.

Background

The Federal Chief Data Officers (CDO) Council was established by the Foundations for Evidence-Based Policymaking Act (Pub. L. 115-435), which also requires all Federal agencies to appoint a CDO. The Council's vision is to improve government mission achievement and increase the benefits to the Nation through improvement in the management, use, protection, dissemination, and generation of data in government decision-making and operations. The CDO Council has more than 90 member CDOs from across the Federal Government, as well as representatives from the Office of Management and Budget, and other key councils and committees. The CDO Council has working groups that focus on critical topics as well as committees that help Federal agencies connect and collaborate. The CDO Council also works with other interagency executive councils on data related topics and activities.

The CDO Council Symposium is for Federal employees as well as any members of the public, including industry, civil society, academia, and any users of Federal Government data. As a result of this meeting, participants will gain insights from Federal leaders leveraging data to transform mission delivery and understand the alignment of AI and data management for sustained value in Federal agencies.

Live Speakers (Subject To Change Without Notice.)

Hosted by: Federal CDO Council

Agenda Topic Areas

November 21, 2024 Symposium Focus Areas

• Data as a strategic enabler for mission and business delivery

• Partnership with CDO's, CAIO's, CIO's and other executive functions in the Federal Government

• Culture and workforce engagement

• The CDO Council's value to the Federal Government

• Strategic partnership in delivery of the Evidence Act

Ariel Crawford,
Senior Advisor CDO Council, Office of Shared Solutions and Performance Improvement, General Services Administration.

[FR Doc. 2024-23036 Filed 10-4-24; 8:45 am]

BILLING CODE 6820-69-P